GENERAL SERVICES ADMINISTRATION

[Notice-MV-2020-01; Docket No. 2020-0002; Sequence No. 14]

Office of Acquisition Policy; Establishment of Online Portal for GSA Guidance Documents

AGENCY: Office of Government-wide Policy; General Services Administration (GSA).

ACTION: Notice of online portal for agency guidance documents.

SUMMARY: In accordance with Executive Order (E.O.) 13891, “Promoting the Rule of Law Through Improved Agency Guidance Documents,” dated October 9, 2019, and Office of Management and Budget (OMB) Memorandum M-20-02, dated October 31, 2019, GSA established an online portal for the public to access GSA guidance documents. Although GSA did not identify agency guidance that falls under the auspices of E.O. 13891 in terms of effecting the behavior of regulated parties, the portal provides links to GSA program web pages, which contain internal GSA guidance documents, in support of the intent of E.O. 13891.

DATES: The portal and associated link will be active as of March 28, 2020.

ADDRESSES: The portal may be found at gsa.gov/guidance.

FOR FURTHER INFORMATION CONTACT: Mathias Bustamante, Office of Acquisition Policy, Office of Government-wide Policy, General Services Administration, 1800 F Street NW, Washington, DC 20405, 202-501-2735.

SUPPLEMENTARY INFORMATION:

This Federal Register Notice announces that: (a) GSA launched a website at gsa.gov/guidance, which includes internal GSA guidance documents, in accordance with E.O. 13891 (84 FR 55235, Oct. 9, 2019); (b) GSA has updated its internal directive for writing external directives (1812.1A CHGE1 OGP) to provide instructions to GSA program components on how to comply with E.O. 13891, which will be available via gsa.gov/guidance; and (c) GSA will include additional internal guidance documents to the gsa.gov/guidance website when identified. Although GSA has not identified any guidance that falls within the auspices of E.O. 13891, the above actions are in compliance with the intent of E.O. 13891.

While GSA does issue guidance documents such as Federal Travel Regulation bulletins, these are internal guidance issued to Federal agencies, which are specifically excluded from the E.O. GSA has not identified any areas where GSA issues guidance intended to have future effects on the behavior of regulated parties, as defined by E.O. 13891. However, as GSA acknowledges that there is a possibility that it may issue such guidance in the future, it is proactively taking steps to ensure it remains compliant with all requirements of E.O. 13891.

GSA's online guidance portal contains links to GSA program websites containing internal guidance, as that term is defined in E.O. 13891. The portal also reiterates that: (1) The contents of the guidance documents found through the portal do not have the force and effect of law and are not legally binding, except as authorized by law or as incorporated into a contract, and (2) these documents are intended only to provide clarity to the public regarding existing requirements under statutes and regulations administered by GSA.

Jessica Salmoiraghi,
Office of Government-wide Policy, General Services Administration.

[FR Doc. 2020-06700 Filed 3-31-20; 8:45 am]

BILLING CODE 6820-MV-P